DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than July 7, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Data Collection Tool for Rural Health Community-Based Grant Programs.

OMB No.: 0915-0319—Extension.

Abstract: There are currently five rural health grant programs that operate under the authority of Section 330A of the Public Health Service (PHS) Act. These programs include: (1) Rural Health Care Services Outreach Grant Program (Outreach); (2) Rural Health Network Development Grant Program (Network Development); (3) Small Healthcare Provider Quality Grant Program (Quality); (4) Delta States Rural Development Network Grant Program (Delta) and (5) Rural Health Network Development Planning Grant Program (Network Planning). These grants are to provide expanded delivery of health care services in rural areas, for the planning and implementation of integrated health care networks in rural areas, and for the planning and implementation of quality improvement and workforce activities. In general, the grants may be used to expand access, coordinate, and improve the quality of essential health care services and enhance the delivery of health care in rural areas.

Need and Proposed Use of the Information: For these programs, performance measures were drafted to provide data useful to the programs and to enable HRSA to provide aggregate program data required by Congress under the Government Performance and Results Act (GPRA) of 1993. These measures cover the principal topic areas of interest to ORHP, including: (a) Access to care; (b) the underinsured and uninsured; (c) workforce recruitment and retention; (d) sustainability; (e) health information technology; (f) network development; and (g) health related clinical measures. Several measures will be used for all six programs. All measures will speak to the ORHP's progress toward meeting the goals set.

Summary of Prior Comments and Agency Response: A 60-day Federal Register Notice was published in the Federal Register on March 10, 2014 (see 79 FR13311-12). One comment was received requesting a copy of the data collection plans and draft instruments that are referenced in the 60-day Federal Register notice for Rural Health Care Services Outreach Grant Program (Outreach); Rural Health Network Development Grant Program (Network Development); Small Healthcare Provider Quality Grant Program (Quality); and Rural Health Network Development Planning Grant Program (Network Planning). HRSA provided the draft instruments on March 12, 2014, via email.

Likely Respondents: Award recipients of the programs under the Section 330A of the Public Health Service Act.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Grant program | Number of respondents | Number of responses per respondent | Total responses | Average burden per response | Total hour burden
Rural Health Care Services Outreach Grant Program | 71 | 1 | 71 | 2.00 | 142.0
Rural Health Network Development | 20 | 1 | 20 | 4.00 | 80.0
Delta States Rural Development Network Grant Program | 12 | 1 | 12 | 6.00 | 72.0
Small Health Care Provider Quality Improvement Grant Program | 30 | 1 | 30 | 7.25 | 217.5
Network Development Planning Grant Program | 21 | 1 | 21 | 3.00 | 63.0
Total | 154 |  | 154 |  | 574.5

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Dated: May 29, 2014.
Jackie Painter,
Deputy Director, Division of Policy and Information Coordination.

[FR Doc. 2014-13003 Filed 6-3-14; 8:45 am]

BILLING CODE 4165-15-P